DEPARTMENT OF TRANSPORTATION

Federal Motor Carrier Safety Administration

49 CFR Parts 387 and 397

[Docket No. FMCSA-2024-0201]

RIN 2126-AC66

Federal Motor Carrier Safety Regulations; Correction

AGENCY: Federal Motor Carrier Safety Administration (FMCSA), Department of Transportation (DOT).

ACTION: Final rule; correcting amendments.

SUMMARY: In a final rule published in the Federal Register on November 18, 2024, FMCSA amended its regulations by making technical corrections throughout the Federal Motor Carrier Safety Regulations (FMCSRs). The final rule included an amendatory instruction to revise a stayed section without first lifting the stay. The final rule also included an amendatory instruction which referenced an incorrect paragraph letter. The Agency corrects these errors.

DATES: This correction is effective January 10, 2025.

FOR FURTHER INFORMATION CONTACT: Mr. Nicholas Lockhart, Regulatory Development Division, Office of Policy, FMCSA, 1200 New Jersey Avenue SE, Washington, DC 20590-0001; (202) 366-2219; nicholas.lockhart@dot.gov.

SUPPLEMENTARY INFORMATION: On November 18, 2024, FMCSA published a final rule (89 FR 90608) that amended its regulations by making technical corrections throughout the FMCSRs. The rule made minor changes to correct inadvertent errors and omissions, remove or update obsolete references, and improve the clarity and consistency of certain regulatory provisions. The rule also made a change to its rules of organization, procedures, and practice. Through this document, FMCSA provides amendments to correct two errors in that final rule.

First, through amendatory instruction no. 107 in the final rule, the Agency sought to revise § 387.307, which is stayed, without first lifting the stay. The Agency corrects this error by providing a new instruction to lift the stay, revise the section, and stay the section. The revisions to § 387.307 are the same revisions described in the final rule (89 FR 90608, 90613). Since the final rule published, the Agency has published another final rule amending § 387.307, titled “Broker and Freight Forwarder Financial Responsibility; Extension of Compliance Date” (89 FR 107021, Dec. 31, 2024). That rule changed the date on which the stay of § 387.307 will be lifted, from January 16, 2025, to January 16, 2026. Accordingly, the Agency's instruction in this correction stays § 387.307 until January 16, 2026.

Second, through amendatory instruction no. 152 in the final rule, the Agency sought to revise paragraph (2) of the definition of “Commerce” in § 397.65. The instruction contained a typographical error that referenced paragraph (s) instead of paragraph (2). The Agency corrects this error by providing a new instruction that references paragraph (2).

List of Subjects

49 CFR Part 387

Administrative practice and procedure, Brokers, Freight forwarders, Hazardous materials transportation, Highway safety, Highways and roads, Motor carriers, Motor vehicle safety, Penalties.

49 CFR Part 397

Administrative practice and procedure, Hazardous materials transportation, Highway safety, Intergovernmental relations, Motor carriers, Parking, Radioactive materials, Reporting and recordkeeping requirements, Rubber and rubber products.

In consideration of the foregoing, FMCSA amends 49 CFR parts 387 and 397 by making the following correcting amendments:

PART 387—MINIMUM LEVELS OF FINANCIAL RESPONSIBILITY FOR MOTOR CARRIERS

1. The authority citation for part 387 continues to read as follows:

Authority: 49 U.S.C. 13101, 13301, 13906, 13908, 14701, 31138, 31139; sec. 204(a), Pub. L. 104-88, 109 Stat. 803, 941; and 49 CFR 1.87.

2. Amend § 387.307 by:

a. Lifting the stay of the section;

b. Revising paragraphs (e)(5) and (6); and

c. Staying the section until January 16, 2026.

The revisions read as follows:

§ 387.307 Property broker surety bond or trust fund.

* * * * *

(e) * * *

(5) Upon notification by the surety company or financial institution in accordance with paragraphs (e)(1) through (4) of this section, FMCSA will provide written notice to the broker that its operating authority registration issued pursuant to part 365 of this chapter will be suspended within 7 business days of service of the notice unless the broker provides written evidence to FMCSA that the notification was sent in error, the surety bond or trust fund has been restored to the $75,000 amount required by this section, or the pending claims have been satisfied without the use of surety bond or trust fund assets. FMCSA will consider such evidence and provide written notice to the broker of its determination.

(6) If the broker fails to respond to the notice within 7 business days of service of the notice, FMCSA will enter a suspension of the broker's authority and provide written notice to the broker that the suspension is in effect. A broker whose authority has been suspended may request that FMCSA lift the suspension by providing written evidence that the notification was sent in error; the surety bond or trust fund has been restored to the $75,000 amount required by this section; or the pending claims have been satisfied without the use of surety bond or trust fund assets. FMCSA will consider such evidence and provide written notice to the broker of its determination.

* * * * *

PART 397—TRANSPORTATION OF HAZARDOUS MATERIALS; DRIVING AND PARKING RULES

3. The authority citation for part 397 continues to read as follows:

Authority: 49 U.S.C. 322; 49 CFR 1.87. Subpart A also issued under 49 U.S.C. 5103, 31136, 31502, and 49 CFR 1.97. Subparts C, D, and E also issued under 49 U.S.C. 5112, 5125.

§ 397.65 [Amended]

4. Amend § 397.65 in paragraph (2) of the definition of “Commerce”, by removing the text “subparagraph (a)” and adding in its place the text “paragraph (1) of this definition”.

Issued under authority delegated in 49 CFR 1.87.
Larry W. Minor,
Associate Administrator for Policy.

[FR Doc. 2025-00212 Filed 1-8-25; 8:45 am]

BILLING CODE 4910-EX-P